FEDERAL EMERGENCY MANAGEMENT AGENCY

Re-establishment of the National Urban Search and Rescue Advisory Committee

AGENCY: Federal Emergency Management Agency (FEMA).

ACTION: Notice.

SUMMARY: In accordance with the Federal Advisory Committee Act, 5 U.S.C. App. 2, the Director of FEMA gives notice of re-establishment of the National Urban Search and Rescue Advisory Committee for a period of two years. Re-establishment of the Committee is a matter of the public interest in connection with the performance of the duties imposed on the Agency by law, to provide advice and recommendations on the continuing development and maintenance of the National Urban Search and Rescue Response System and the Agency's Urban Search and Rescue Program.

SUPPLEMENTARY INFORMATION: The objective of the Advisory Committee is to provide advice, recommendations, and counsel on the continuing development and maintenance of a National Urban Search and Rescue Response System to the Director of FEMA. Principal functions of the Advisory Committee include:

a. Providing guidance to FEMA on the continuing development and implementation of a National Urban Search and Rescue capability;

b. Recommending priorities and appropriate funding levels for Urban Search and Rescue capability development and maintenance;

c. Overseeing the existing working group structure and recommending new working groups, as necessary;

d. Providing guidance and recommendations to FEMA regarding the concerns and priorities of the organizations which the members of the Advisory Committee represent; and,

e. Addressing legislative and State/local political matters that affect the National Urban Search and Rescue Response System.

The Advisory Committee will be comprised of up to 10 members, including the Designated Federal Officer for the Committee, or his or her designee, who will serve as the Chair. Members are appointed for 2-year terms, subject to renewal, and will serve at the discretion of the Designated Federal Officer. Members are selected to ensure a balanced representation of interests. Appointments to the Advisory Committee are reserved for representatives of the organizations that are most involved with the National Urban Search and Rescue Response System, to include Task Forces, State emergency management organizations, and fire service management and labor organizations.

The Advisory Committee shall also operate ad hoc committees and standing Functional Working Groups, as necessary to meet its responsibilities. They shall be accomplished through an Operations Group, that consists of a representative of the Task Force Leaders, three Task Force Leaders representing the three geographic divisions established within the United States, and the chairs of all Functional Working Groups. The Operations Group will report to the Chair of the Advisory Committee. Members of the Functional Working Groups are recommended based on professional expertise in fields such as search, rescue medicine, technology, logistics, communications and information technology, training, law, and structural engineering and emergency management. Federal employees may be considered for membership on the Advisory Committee or Functional Working Groups, if they possess unique expertise that will augment effective operation of the Committee or Working Group.

Comments: Comments on the re-establishment of the National Urban Search and Rescue Advisory Committee should be submitted on or before April 20, 2001.

ADDRESSES: Comment on re-establishment of the Advisory Committee are invited and should be addressed to the Rules Docket Clerk, Office of General Counsel, Federal Emergency Management Agency, 500 C Street, SW, Room 840, Washington, DC 20472 or via e-mail at rules@fema.gov.

FOR FURTHER INFORMATION CONTACT: Mark Russo, Program Specialist, Emergency Services Branch, Operations and Planning Division, Response and Recovery Directorate, Federal Emergency Management Agency at (202) 646-3131 or via e-mail at mark.russo@fema.gov.

Dated: April 2, 2001.
Reginald Trujillo,
Director, Program Services Division.

[FR Doc. 01-8413 Filed 4-4-01; 8:45 am]

BILLING CODE 6718-01-P